DEPARTMENT OF HEALTH AND HUMAN SERVICES

Centers for Disease Control and Prevention

[Docket No. CDC-2017-0115]

Availability of Vessel Sanitation Program (VSP) Operations Manual and VSP Construction Guidelines

AGENCY: Centers for Disease Control and Prevention (CDC), Department of Health and Human Services (HHS).

ACTION: Notice of availability.

SUMMARY: The Centers for Disease Control and Prevention (CDC), located within the Department of Health and Human Services (HHS) announces the availability of the 2018 Vessel Sanitation Program (VSP) Operations Manual and the VSP Construction Guidelines.

DATES: The final documents are available April 27, 2018.

ADDRESSES: The final documents are found in the docket at www.regulations.gov, Docket No. CDC-2017-0115 and at www.cdc.gov/nceh/vsp/.

FOR FURTHER INFORMATION CONTACT: Commander Aimee Treffiletti, Chief, Vessel Sanitation Program, National Center for Environmental Health, Centers for Disease Control and Prevention, 4770 Buford Highway NE, MS F-59, Chamblee, Georgia 30341-3717; phone: 800-323-2132 or 954-356-6650; email: vsp@cdc.gov.

SUPPLEMENTARY INFORMATION: On December 4, 2017, CDC published a notice in the Federal Register (82 FR 57272) requesting public comment on the draft versions of the VSP Operations Manual and VSP Construction Guidelines. In these drafts, VSP revised the VSP Operations Manual to reflect new technologies, current food science, disease patterns and trends, and emerging pathogens. VSP also revised the VSP Construction Guidelines as a framework of consistent construction and design guidelines related to public health, including vessel facilities related to food storage, preparation, and service and water bunkering, storage, disinfection, and distribution.

CDC received five comments on the document from industry and the public. Comments related to document format (highlighted versions), height requirements for handwashing stations, requirements for chlorine and pH monitoring of production water, language in specific sections of the Operations Manual, and a general comment about the effectiveness of the program.

In response to the comments, CDC has provided highlighted versions of the 2018 Operations Manual and Construction Guidelines and included requirements for handwashing station height and chlorine and pH monitoring. Regarding the comment suggesting language changes, CDC developed the draft 2018 Operations Manual through a cooperative change request system with industry. In 2015, CDC provided change request forms and instructions to industry partners, then held in-person and web-based meetings with partners over 2 years to review the change requests they submitted. Proposed substantive changes would need to be accepted through the same process before CDC could consider including them in the draft 2018 Operations Manual. CDC took no action in response to the general comment about the program being ineffective. CDC carefully reviewed and considered all comments in development of the final documents.

Dated: April 23, 2018.
Sandra Cashman,
Executive Secretary, Centers for Disease Control and Prevention.

[FR Doc. 2018-08870 Filed 4-26-18; 8:45 am]

BILLING CODE 4163-18-P